DEPARTMENT OF JUSTICE

Antitrust Division

Notice Pursuant to the National Cooperative Research and Production Act of 1993—Members of SGIP 2.0, Inc.

Notice is hereby given that, on February 5, 2013, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: American Association for Laboratory Accreditation (A2LA), Frederick, MD; American Electric Power, Columbus, OH; Arizona Public Service Company, Phoenix, AZ; Association of Home Appliance Manufacturers, Washington, DC; Battelle Pacific Northwest Lab, Richland, WA; California Public Utilities Commission, San Francisco, CA; Clevest Solutions, Inc., Richmond, British Columbia, CANADA; Climate Talk Alliance, San Ramon, CA; Florida Power & Light Company, Juno Beach, FL; Utilities Telecom Council, Inc., Washington, DC; WiMAX Forum, Solana Beach, CA; Hydro-Quebec, Montreal, Quebec, CANADA; SunSpec Alliance, Scotts Valley, CA; Tendril, Boulder, CO; Ameren Services, St. Louis, MO; CenterPoint Energy Houston Electric, Houston, TX; New York Independent System Operator, Inc., Rensselaer, NY; American Council of Independent Laboratories, Washington, DC; Lakeview Consulting Group, Morgan Hill, CA; Grid2Home, Inc., San Diego, CA; Homegrid Forum, Beaverton, OR; Japan Smart Community Alliance, Kawasaki City, Kanagawa, JAPAN; Southern Company Services, Inc., Birmingham, AL; Systems Integration Specialists Company, Inc. (SISCO), Sterling Heights, MI; National Rural Electric Cooperative Association (NRECA), Arlington, VA; PJM Interconnection, Norristown, PA; Landis+Gyr Technology, Inc., Alpharetta, GA; DTE Energy, Detroit, MI; Eaton Corporation, Arden, NC; Buford Goff & Associates, Inc., Columbia, SC; FirstEnergy Service Company, Akron, OH; Home, Building & Utility Systems, Stoneham, MA; Kottage Industries LLC, Worthington, OH; National Institute of Standards and Technology (NIST), Gaithersburg, MD; New York State Department of Public Service, Albany, NY; PPL Corporation, Allentown, PA; Southern California Edison, Westminster, CA; Wedin Communications, Plymouth, MN; Zigbee Alliance, Inc., San Ramon, CA; ZIV USA INC., Rolling Meadows, IL; Portland General Electric Company, Portland, OR; Electric Power Research Institute (EPRI), Palo Alto, CA; Schneider Electric, Norcross, GA; Bonneville Power Administration, Portland, OR; Sacramento Municipal Utility District, Sacramento, CA; Edison Electric Institute (EEI), Washington, DC; ISO New England, Holyoke, MA; Cooper Power Systems, LLC, Waukesha, WI; Drummond Group, Inc., Maumelle, AR; Electric Reliability Council of Texas (ERCOT), Austin, TX; Helikon.net, Washington, DC; Honeywell Automation and Control Solutions, Golden Valley, MN; National Electrical Manufacturers Association (NEMA), Rosslyn, VA; Alliant Energy, Madison, WI; Michigan Public Service Commission, Lansing, MI; Navigant Consulting, Boulder, CO; Coordinated Science Laboratory—University of Illinois, Urbana, IL; EnerNex LLC, Knoxville, TN; Itron, Inc., Liberty Lake, WA; MobiComm Communications, The Hague, THE NETHERLANDS; Power Systems Engineering Research Center (PSERC), Tempe, AZ; Samsung Telecommunications America, Richardson, TX; EnerNOC, Inc., Boston, MA; Exelon Corporation, Chicago, IL; Kalki Communications Technologies Private Limited (KALKITECH), HSR Layout, Bangalore, INDIA; Energy Information Standards Alliance (EIS Alliance), Morgan Hill, CA; India Smart Grid Forum (ISGF), Chanakyapuri, New Dehli, INDIA; Oncor Electric Delivery, Dallas, TX; Pepco Holdings, Inc., Washington, DC; California Independent System Operator Corporation, Folsom, CA; Qualcomm Technologies, Inc., San Diego, CA; EnerTech, Inc., Conshohocken, PA; Calm Sunrise Consulting, LLC, Woodbury, MN; CNT Energy, Chicago, IL; HomePlug Powerline Alliance, Inc., Lake Oswego, OR; Hypertek, Inc., North Potomac, MD; Milenthal-DelGrosso, Columbus, OH; ThinkSmartGrid, Chicago, IL; UPnP Forum, Beaverton, OR; Valley View Corporation, Rockville, MD; ASHRAE, Atlanta, GA; Consumer Electronics Association, Arlington, VA; Cornice Engineering, Inc., Grand Canyon, AZ; General Electric Company, Atlanta, GA; iWire365, Garland, TX; Sustainable Resources Management, Toronto, Ontario, CANADA; American Public Power Association (APPA), Washington, DC; Newport Consulting Group, Newport Beach, CA; Silver Spring Networks, Redwood City, CA; Mitsubishi Electric Research Labs, Cambridge, MA; Johnson Controls, Inc., Milwaukee, WI; and NXEGEN LLC, Middletown, CT. The general area of MSGIP 2.0's planned activity is to continue the work of the unincorporated SmartGrid Interoperability Panel, by supporting the National Institute of Standards and Technology in fulfilling its responsibilities pursuant to the Energy Independence and Security Act of 2007, including but not limited to by (a) Providing technical guidance and coordination to help facilitate standards development for smart grid interoperability; (b) identifying and specifying testing and certification requirements, including provision of the underlying rationale to assess achievement of interoperability using smart grid standards; (c) informing and educating smart grid industry stakeholders regarding smart grid interoperability and related benefits; (d) liaising with similar organizations in other countries to help establish global smart grid interoperability alignment; and (e) undertaking such other activities as may from time to time be appropriate to further the purposes and achieve the goals set forth above.

Patricia A. Brink,
Director of Civil Enforcement, Antitrust Division.

[FR Doc. 2013-05310 Filed 3-6-13; 8:45 am]

BILLING CODE P